DEPARTMENT OF TRANSPORTATION

Federal Aviation Administration

14 CFR Part 39

[Docket No. FAA-2006-24641; Directorate Identifier 2006-CE-27-AD; Amendment 39-14724; AD 2006-17-03]

RIN 2120-AA64

Airworthiness Directives; Stemme GmbH & Co. KG Models S10, S10-V, and S10-VT Sailplanes

AGENCY: Federal Aviation Administration (FAA), DOT.

ACTION: Final rule.

SUMMARY: The FAA adopts a new airworthiness directive (AD) for certain Stemme GmbH & Co. KG (Stemme) Models S10, S10-V, and S10-VT sailplanes. This AD requires you to inspect the connection between the aileron push-rod and the connecting shaft to determine if a safety washer is installed. If there is no safety washer installed, this AD requires you to modify the aileron control assembly. This AD results from mandatory continuing airworthiness information (MCAI) issued by the airworthiness authority for Germany. We are issuing this AD to prevent a loose bearing in the aileron control lever, which could result in separation of the aileron control system. Separation of the aileron control system could lead to loss of aileron control.

DATES: This AD becomes effective on September 22, 2006.

As of September 22, 2006, the Director of the Federal Register approved the incorporation by reference of certain publications listed in the regulation.

ADDRESSES: To get the service information identified in this AD, contact STEMME AG, Flugplatzstraβe F 2, Nr. 7, D-15344 Strausberg, Germany; telephone: + 49.33.41/36 12-0; facsimile: + 49.33.41/36 12-30; e-mail: P.Ellwanger@stemme.de.

To view the AD docket, go to the Docket Management Facility; U.S. Department of Transportation, 400 Seventh Street, SW., Nassif Building, Room PL-401, Washington, DC 20590-001 or on the Internet at http://dms.dot.gov. The docket number is FAA-2006-24641; Directorate Identifier 2006-CE-27-AD.

FOR FURTHER INFORMATION CONTACT: Gregory A. Davison, Aerospace Engineer, ACE-112, Small Airplane Directorate, 901 Locust, Room 301, Kansas City, Missouri 64106; telephone: (816) 329-4130; facsimile: (816) 329-4090.

SUPPLEMENTARY INFORMATION:

Discussion

On May 24, 2006, we issued a proposal to amend part 39 of the Federal Aviation Regulations (14 CFR part 39) to include an AD that would apply to certain Stemme Models S10, S10-V, and S10-VT sailplanes. This proposal was published in the Federal Register as a notice of proposed rulemaking (NPRM) on June 2, 2006 (71 FR 31980). The NPRM proposed to require you to inspect the joint between the aileron control rod, part number (P/N) 10SQ-RMB, and the connecting shaft, P/N 10SQ-RMW, to determine if a safety washer is installed. If a safety washer is not installed, the NPRM proposed to require you to modify this area by replacing the joint bolt (P/N LN9037-06042), installing a safety washer (P/N D440-06), and installing washer (P/N 10M-282).

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD will affect 105 sailplanes in the U.S. registry.

We estimate the following costs to do the inspection:

Labor cost | Parts cost | Total cost per sailplane | Total cost on U.S. operators
1 work-hour × $80 per hour = $80 | N/A | $80 | 105 × $80 = $8,400

We estimate the following costs to do any necessary replacements that will be required based on the results of the inspection. We have no way of determining the number of sailplanes that may need this replacement:

Labor cost | Parts cost | Total cost per sailplane
2 work-hours × $80 per hour = $160 | $30 | $160 + $30 = $190

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24641; Directorate Identifier 2006-CE-27-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-17-03 Stemme GmbH & Co. KG: Amendment 39-14724; Docket No. FAA-2006-24641; Directorate Identifier 2006-CE-27-AD.

Effective Date

(a) This AD becomes effective on September 22, 2006.

Affected ADs

(b) None.

(c) This AD affects the following sailplane models and serial numbers that are certificated in any category:

Model | Serial Nos.
S10 | 10-03 through 10-56.
S10-V | 14-001 through 14-030 (including all converted versions 14-003M through 14-056M).
S10-VT | 11-001 through 11-089.

Unsafe Condition

(d) This AD results from mandatory continuing airworthiness information (MCAI) issued by the airworthiness authority for Germany. We are issuing this AD to prevent a loose bearing in the aileron control lever, which could result in separation of the aileron control system. Separation of the aileron control system could lead to loss of aileron control.

Compliance

(e) To address this problem, you must do the following:

Actions | Compliance | Procedures
(1) Inspect the joint between the aileron control rod, part number (P/N) 10SQ-RMB (or FAA-approved equivalent part number), and the connecting shaft, P/N 10SQ-RMW (or FAA-approved equivalent part number), to determine if a safety washer, P/N DIN 440-06 (or FAA-approved equivalent part number), is installed | Within the next 20 hours time-in-service after September 22, 2006 (the effective date of this AD) | Follow Stemme Service Bulletin Document Number: A31-10-069, Am.-Index 01.a, dated September 10, 2004
(2) If after the inspection required in paragraph (e)(1) of this AD, you can positively determine that a safety washer, P/N DIN 440-06 (or FAA-approved equivalent part number), is installed between the joint in the aileron control rod and the connecting shaft, no further action is required | Not applicable | Not applicable
(3) If after the inspection required in paragraph (e)(1) of this AD, you cannot positively determine that a safety washer is installed between the joint in the aileron control rod and the connecting shaft, do the following | Before further flight after the inspection required in paragraph (e)(1) of this AD | Follow Stemme Service Bulletin Document Number: A31-10-069, Am.-Index 01.a, dated September 10, 2004.
(i) Install a safety washer, P/N DIN 440-06 (or FAA-approved equivalent part number);
(ii) Replace the existing bolt with bolt, P/N LN9037-06042 (or FAA-approved equivalent part number), from the modification kit; and
(iii) Install washer, P/N 10M-282 (or FAA-approved equivalent part number)
(4) 14 CFR 21.303 allows for replacement parts through parts manufacturer approval (PMA). The phrase “or FAA-approved equivalent part number” in this AD is intended to signify those parts that are PMA parts approved through identicality to the design of the part under the type certificate and replacement parts to correct the unsafe condition under PMA (other than identicality). If parts are installed that are identical to the unsafe parts, then the corrective actions of the AD affect these parts also. In addition, equivalent replacement parts to correct the unsafe condition under PMA (other than identicality) may also be installed provided they meet current airworthiness standards, which include those actions cited in this AD | Not applicable | Not applicable.

Alternative Methods of Compliance (AMOCs)

(f) The Manager, Standards Office, Small Airplane Directorate, FAA, ATTN: Gregory A. Davison, Aerospace Engineer, ACE-112, Small Airplane Directorate, 901 Locust, Room 301, Kansas City, Missouri 64106; telephone: (816) 329-4130; facsimile: (816) 329-4090, has the authority to approve AMOCs for this AD, if requested using the procedures found in 14 CFR 39.19.

Related Information

(g) German AD Number D-2004-443, dated September 27, 2004, addresses the subject of this AD.

Material Incorporated by Reference

(h) You must do the actions required by this AD following the instructions in Stemme Service Bulletin Document Number: A31-10-069, Am.-Index 01.a, dated September 10, 2004. The Director of the Federal Register approved the incorporation by reference of this service bulletin in accordance with 5 U.S.C. 552(a) and 1 CFR part 51. To get a copy of this service information, contact STEMME AG, Flugplatzstraβe F 2, Nr. 7, D-15344 Strausberg, Germany; telephone: + 49.33.41 / 36 12-0; facsimile: + 49.33.41 / 36 12-30. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2006-24641; Directorate Identifier 2006-CE-27-AD.

Issued in Kansas City, Missouri, on August 9, 2006.
John R. Colomy,
Acting Manager, Small Airplane Directorate,Aircraft Certification Service.

[FR Doc. E6-13440 Filed 8-17-06; 8:45 am]

BILLING CODE 4910-13-P